INTERNATIONAL TRADE COMMISSION

[Investigation No. 337-TA-883]

Certain Opaque Polymers; Notice of Commission Decision Amending the Complaint and Notice of Investigation

AGENCY: U.S. International Trade Commission.

ACTION: Notice.

SUMMARY: Notice is hereby given that the U.S. International Trade Commission has determined not to review the presiding administrative law judge's (“ALJ”) initial determination (“ID”) (Order No. 8) amending the complaint and notice of investigation in the above-captioned investigation. The amended complaint and notice of investigation add a new claim of trade secret misappropriation against the respondents.

FOR FURTHER INFORMATION CONTACT: Sidney A. Rosenzweig, Office of the General Counsel, U.S. International Trade Commission, 500 E Street SW., Washington, DC 20436, telephone (202) 708-2532. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on June 21, 2013, based on a complaint filed by the Dow Chemical Company of Midland, Michigan, and by Rohm and Haas Company and Rohm and Haas Chemicals LLC, both of Philadelphia, Pennsylvania. 78 FR 37571 (June 21, 2013). The complaint alleged violations of section 337 of the Tariff Act of 1930, as amended 19 U.S.C. 1337, by reason of the infringement of certain claims from four United States Patents. The notice of institution named five respondents: Organik Kimya Sa. ve Tic. A.Ş of Istanbul, Turkey; Organik Kimya Netherlands B.V. of Rotterdam-Botlek, Netherlands; Organik Kimya US, Inc. of Burlington, Massachusetts; Turk International LLC of Aptos, California; and Aalborz Chemical LLC d/b/a All Chem of Grand Rapids, Michigan.

On October 17, 2013, the complainants moved to amend the complaint and notice of investigation to add a new claim of trade secret misappropriation against the respondents. On October 28, 2013, the respondents opposed the motion, and on October 30, 2013, the complainants filed a motion for leave to file an attached reply.

On November 7, 2013, the ALJ granted the motion as an ID. Order No. 8. No petitions for review of the ID were filed. The Commission has determined not to review the ID.

The authority for the Commission's determination is contained in section 337 of the Tariff Act of 1930, as amended (19 U.S.C. 1337), and in sections 210.14 and 210.42 of the Commission's Rules of Practice and Procedure (19 CFR 210.14, 210.42).

By order of the Commission.
Issued: November 25, 2013.
Lisa R. Barton,
Acting Secretary to the Commission.

[FR Doc. 2013-28708 Filed 11-27-13; 8:45 am]

BILLING CODE 7020-02-P